DEPARTMENT OF TRANSPORTATION

Federal Aviation Administration

Notice of Extension of the Public Comment Period for the Draft Supplemental Environmental Assessment for the Proposed Modification to the Four Corner-Post Plan at Las Vegas McCarran International Airport

AGENCY: Federal Aviation Administration (FAA), DOT.

ACTION: Extension of public comment period.

SUMMARY: This notice advises the public that the comment period for the Draft Supplemental Environmental Assessment (DSEA) for the proposed modification to the Four Corner-Post Plan at Las Vegas McCarran International Airport, Las Vegas, Nevada is extended.

DATES: The comment period of the DSEA, originally ending on December 30, 2005, and then extended to January 13, 2006, is now extended to March 14, 2006.

SUPPLEMENTARY INFORMATION: On November 22,2005, the Federal Aviation Administration (FAA) issued a notice of the availability of the DSEA for the Las Vegas McCarran International Airport. The notice published on December 5, 2005, FR Vol. 70, page 72497, also announced the schedule for public workshops regarding the DSEA, and advised that the public comment period would close Friday, December 30, 2005. The public workshops were held on November 12 and 13, 2005. A Notice of Extension of the Public Comment Period, published on December 16, 2006, FR Vol. 70, page 74864, extending the public comment period to January 13, 2006. The public comment period is further extended to March 14, 2006.

All written comments are to be submitted to Ms. Sara Hassert, Landrum & Brown, Inc., 8755 W. Higgins Rd., Ste. 850, Chicago, IL 60631, fax: 773-628-2901, E-mail: shassert@landrum-brown.com and the comments must be postmarked and e-mail/fax must be sent by no later than midnight, Tuesday, March 14, 2006.

FOR FURTHER INFORMATION CONTACT: Ms. Kathryn Higgins, Environmental Specialist, Western Terminal Service Area Office, FAA Western Terminal Operations, 15000 Aviation Blvd., Lawndale, CA 90261, Ph. 310-725-6597, E-mail: kathryn.higgins@faa.gov.

Issued in Lawndale, California on January 12, 2006.
Stephen Lloyd,
Manager, Operations Support, Western Terminal Service Area.

[FR Doc. 06-590 Filed 1-23-06; 8:45 am]

BILLING CODE 4910-13-M